DEPARTMENT OF THE INTERIOR

Bureau of Land Management

[UT-060-1610-016J]

Notice of Availability of the Draft Resource Management Plan and Draft Environmental Impact Statement for the Moab Field Office in Grand and San Juan Counties, UT

AGENCY: Bureau of Land Management, Interior.

ACTION: Notice of Availability.

SUMMARY: In accordance with the National Environmental Policy Act of 1969 (42 U.S.C. 4321 et seq.), and the Federal Land Policy and Management Act of 1976 (FLPMA, 43 U.S.C. 1701 et seq.), the Bureau of Land Management (BLM) hereby gives notice that the Moab Draft Resource Management Plan and Draft Environmental Impact Statement (DRMP/DEIS) is available for a 90-day public review and comment period. This notice also meets requirements in 43 CFR 1610.7-2(b) concerning potential Areas of Critical Environmental Concern (ACECs).

DATES: To ensure that your written comments on the DRMP/DEIS will be considered, you should send them to the BLM within 90 days following the date the Environmental Protection Agency publishes the notice of availability in the Federal Register. The BLM will announce public meetings and other public-involvement activities at least 15 days in advance through public notices, news releases, direct mailings, and posting on the project Web site at http://www.blm.gov/ut/st/en/prog/planning.1.html. Public meetings will be held in Moab, Monticello, and Salt Lake City, Utah, and in other locations, if warranted.

ADDRESSES: Address written comments to: RMP Comments, Moab Field Office, Bureau of Land Management, 82 East Dogwood, Moab, UT 84532. Comments may also be submitted electronically by e-mail to: UT_Moab_Comments@blm.gov. Comments, including names and addresses of respondents, will be available for public review at the Moab Field Office, and will be subject to disclosure under the Freedom of Information Act (FOIA). Before including your address, phone number, e-mail address, or other personal identifying information in your comment, be advised that your entire comment—including your personal identifying information—may be made publicly available at any time. While you can ask us in your comment to withhold from public review your personal identifying information, we cannot guarantee that we will be able to do so. All submissions from organizations and businesses, and from individuals identifying themselves as representatives or officials of organizations or businesses, will be available for public inspection in their entirety.

FOR FURTHER INFORMATION CONTACT: For further information, or to have your name added to the Moab RMP mailing list, visit the RMP Web site: http://www.blm.gov/ut/st/en/prog/planning.1.html. Or, you may contact Brent Northrup, RMP Project Manager, Moab BLM Field Office, 82 East Dogwood, Moab, UT 84532, phone (435) 259-2100. To have your name added to the Moab RMP mailing list, or to view and download the DRMP/DEIS in portable document format (PDF) go to the project Web site: http://www.blm.gov/ut/st/en/prog/planning.1.html. Copies of the DRMP/DEIS are also available at the BLM Moab Field Office.

SUPPLEMENTARY INFORMATION: The DRMP/DEIS addresses public lands and resources managed by the Moab Field Office in Grand and San Juan Counties, Utah. These lands and resources are currently managed under the Grand Resource Area RMP (1985). The planning area includes approximately 1.8 million acres of BLM-administered public lands as well as Federally-owned minerals.

The BLM analyzes four proposed alternatives in the DRMP/DEIS:

• Alternative A (No Action): represents continuation of existing management under the current management goals, objectives, and direction specified in the Grand Resource Area RMP.

• Alternative B: Emphasizes protection of natural resource values and landscapes.

• Alternative C (BLM Preferred Alternative): emphasizes a balance of resource protection with commodity production.

• Alternative D: emphasizes commodity production.

Major issues that were identified during public scoping and considered in the DRMP/DEIS include: oil and gas development; recreation and off-highway vehicle management; special designations (ACECs and suitability of rivers for Congressional designation into the national Wild and Scenic Rivers System); land areas with wilderness characteristics; and transportation and access. The DRMP/DEIS considers the designation and protection of ACECs. ACEC values and resource use limitations vary by ACEC and the number of proposed ACECs and acres vary by alternative (refer to the table below). More detailed management prescriptions in these areas are provided in the DRMPR/DEIS.

Acres of BLM-Managed Surface Estate Proposed To Be Managed as ACECS Under the Alternatives in the DRMP/DEIS
ACEC values and use limitations | Alternative A | Alternative B | Alternative C (preferred) | Alternative D
Behind the Rocks | 0 | *17,836 | *5,201 | 0
Values: Scenery, cultural, and natural systems (including threatened, sensitive and endangered plants)
Limitations: Manage as Visual Resource Management (VRM) Class I in Alternative B, and VRM Class II in Alternative C. Apply No Surface Occupancy (NSO) stipulations for oil and gas leasing and other surface disturbing activities [closed in the Wilderness Study Area (WSA)]. Limit Off Highway Vehicle (OHV) use to designated routes.
Bookcliffs Wildlife | 0 | *304,252 | 0 | 0
Values: Wildlife and cultural
Limitations: Apply NSO stipulations for oil and gas leasing and other surface disturbing activities (closed in WSAs). Limit OHV use to designated routes, and allow no new routes.
Canyon Rims | 0 | *23,400 | 0 | 0
Value: Scenery
Limitations: Manage as VRM Class II. Apply NSO stipulations for oil and gas leasing and other surface disturbing activities. Limit OHV use to designated routes.
Cisco White-Tailed Prairie Dog Complex | 0 | *117,481 | 0 | 0
Value: Wildlife habitat
Limitations: Apply NSO stipulations for oil and gas leasing and other surface disturbing activities. Limit OHV use to designated routes, and use grazing systems to protect prairie dog habitat.
Colorado River Corridor | 0 | *50,483 | 0 | 0
Values: Scenery, natural systems (including threatened, sensitive and endangered plants), fish and wildlife
Limitations: Manage as VRM Class I. Apply NSO stipulations for oil and gas leasing and other surface disturbing activities. Limit OHV use to designated routes, and impose restrictions on recreation use.
Cottonwood/Diamond Watershed | 0 | *35,830 | 35,830 | 0
Values: Natural hazards and natural systems
Limitations: Apply NSO stipulations for oil and gas leasing and other surface disturbing activities (closed in WSA). Limit OHV use to designated routes, and allow no new routes.
Highway 279 Corridor/Shafer Basin/Long Canyon | 0 | *13,500 | *13,500 | 0
Values: Scenery, wildlife, natural systems (threatened, sensitive and endangered plants) and cultural
Limitations: Manage as VRM Class I (Alternative B), and as VRM Class II (Alternative C). Apply NSO stipulations for oil and gas leasing and other surface disturbing activities. Limit OHV use to designated routes.
Labyrinth Canyon | 0 | *8,528 | 0 | 0
Values: Scenery and fish
Limitations: Manage as VRM Class I. Apply NSO stipulation for oil and gas leasing and other surface disturbing activities. Limit OHV use to designated routes, allow no new routes.
Mill Creek Canyon | 0 | *13,501 | *3,721 | 0
Values: Scenery, cultural, and natural systems (riparian/watershed/cold water fishery/wildlife)
Limitations: Manage as VRM Class I (Alternative B), and VRM Class II (Alternative C). Apply NSO stipulations for oil and gas leasing and other surface disturbing activities (closed in the WSA). Limit OHV use to designated routes, impose restrictions on recreation use.
Ten Mile Wash | 0 | *4,980 | *4,980 | 0
Values: Natural systems (riparian/wetlands), wildlife, cultural and natural hazards
Limitations: Apply NSO stipulations for oil and gas leasing and other surface disturbing activities. Limit OHV use to designated routes, and impose restrictions on recreation use.
Upper Courthouse | 0 | *11,529 | 0 | 0 ROW> | Values: Historic, cultural, paleontological, and natural systems (including threatened, endangered and relict plants)
Limitations: Apply NSO stipulations for oil and gas leasing and other surface disturbing activities. Limit OHV use to designated routes, and impose recreation restrictions.
Westwater Canyon | 0 | *5,069 | 0 | 0
Values: Scenery, fish
Limitations: Manage as VRM Class I. Close to oil and gas leasing and other surface disturbing activities. Close to motorized travel, allow no new routes.
White Wash | 0 | *2,988 | 0 | 0
Values: Natural systems (riparian dune systems)
Limitations: Apply NSO stipulations for oil and gas leasing and other surface disturbing activities. Limit OHV use to designated routes, impose restrictions on recreation.
Wilson Arch | 0 | *3,700 | 0 | 0
Values: Scenery
Limitations: Manage as VRM Class I. Apply NSO stipulations for oil and gas leasing and other surface disturbing activities. Limit OHV use to designated routes.
Total Acres | 0 | *613,077 | *63,232 | 0
* Acres.

Jeff Rawson,
Utah Associate State Director.

[FR Doc. E7-16700 Filed 8-23-07; 8:45 am]

BILLING CODE 4310-DK-P